DEPARTMENT OF TRANSPORTATION

Research and Special Programs Administration (RSPA), DOT

[Docket No. RSPA-00-7666; Notice 1 and RSPA-00-7408; Notice 1]

Pipeline Safety: Pipeline Integrity Management in High Consequence Areas (Natural Gas Pipelines) and Communications (Natural Gas and Hazardous Liquid Pipelines)

AGENCY: Office of Pipeline Safety, Research and Special Programs Administration, DOT.

ACTION: Notice of public meeting and request for comments.

SUMMARY: This notice announces a three-day public meeting. Day 1 will feature reports on the status of industry and government activities on how to improve the integrity of natural gas pipelines. On Day 2, the Integrity Management Communications Work Group will report its status and presentations from members of the public and will further explore communication needs and options. On Day 3, meeting attendees are invited to participate in in-depth discussions on the integrity of natural gas pipelines. This meeting is a continuation of the integrity project begun at a November 18, 1999, public meeting held in Herndon, VA. Since that meeting, OPS has initiated rulemakings requiring hazardous liquid pipeline operators to assess the integrity of pipeline segments that, in the event of a leak or failure, could affect high consequence areas. In anticipation of similar rulemakings applying to natural gas pipelines, OPS has been meeting with representatives of the natural gas pipeline industry, research institutions, and State pipeline safety agencies to understand how integrity management principles can best be applied to improve safety in the gas pipeline industry. OPS has also been exploring communication requirements for all pipeline operators to share information with community and State officials and the public about risks from pipelines, how pipeline risks can be managed and controlled, and how we know the pipelines are being operated safely. This three-day public meeting will present, to the widest possible audience, the results of all analyses and discussions to date, identify issues, and obtain public comment.

DATES: The public meeting will be on February 12, 2001, from 9 a.m. to 4 p.m., February 13, 2001, from 9 a.m. to 4 p.m., and February 14, 2001, from 9 a.m. to 12 noon, at the Crystal City Marriott.

ADDRESSES: (1) Meeting Address: Crystal City Marriott, 1999 Jefferson Davis Highway, Arlington, VA, 22202, 703-413-5500. Rooms may be reserved within a block identified as “Department of Transportation Integrity Management Meetings”. (2) Address for Written Comments: OPS requests that comments relating to the public meeting be submitted on or before January 29, 2001, so they can be considered as the meeting agenda is being developed. Submit written comments by mail or delivery to the Dockets Facility, U.S. Department of Transportation, Room PL-401, 400 Seventh Street, SW., Washington, DC 20590-0001. You also may submit written comments to the docket electronically. To do so, log on to the dms.dot.gov. Click on “Help & Information” for instructions on how to file a document electronically. Written comments should identify the appropriate docket RSPA-00-7666 for integrity management for gas pipelines and RSPA-00-7408 for communications. Anyone desiring confirmation of mailed comments must include a self-addressed stamped postcard. The Dockets Facility is located on the plaza level, Room PL-401, of the US Department of Transportation, 400 Seventh Street, SW., Washington, DC 20590. It is open from 10 a.m. to 5 p.m., Monday through Friday, except federal holidays.

If you want to make an oral presentation at the meeting, please notify Jenny Donohue no later than January 29, 2001, by phone (202-366-4046) or by Internet e-mail (jenny.donohue@rspa.dot.gov).

FOR FURTHER INFORMATION CONTACT: Beth Callsen (tel: 202-366-4572; E-mail: beth.callsen@rspa.dot.gov). You can read comments and other material in the docket on the Internet at: http://dms.dot.gov.

SUPPLEMENTAL INFORMATION:

1. Background

OPS's integrity management and communication initiatives are the culmination of experience gained from pipeline inspections, accident investigations and risk management and system integrity initiatives. These initiatives are intended to improve safety and environmental protection and to provide better assurance to the public about the safety of pipelines. They are also intended to comprehensively address National Transportation Safety Board (NTSB) recommendations, Congressional mandates and pipeline safety and environmental issues raised over the years.

OPS is issuing integrity management program requirements in several steps. Because natural gas and hazardous liquids have different physical properties, pose different risks, and the configuration of the systems differ, and because OPS already possessed sufficient information about integrity management practices on hazardous liquid pipelines, OPS began the series of rules by issuing requirements pertaining to hazardous liquid operators. A final rule applying to hazardous liquid operators with 500 or more miles of pipeline was issued November 3, 2000, (65 FR 75378). This rule applies to pipelines that can affect high consequence areas (HCAs), which include populated areas defined by the Census Bureau as urbanized areas or places, unusually sensitive environmental areas, and commercially navigable waterways. A notice of proposed rulemaking applying to hazardous liquid operators with fewer than 500 miles of pipeline will be issued soon.

Day 1: Integrity Management Concepts for Gas Pipelines

OPS has been meeting with representatives of the gas pipeline industry, research institutions, and State pipeline safety agencies to gather the information needed for rulemakings pertaining to gas operators. Since January 2000, there have been nine meetings with State agencies, representatives of the Interstate Natural Gas Association of America (INGAA), the American Gas Association (AGA), Battelle Memorial Institute, the Gas Technology Institute (GTI), Hartford Steam Boiler Inspection and Insurance Company, and operators covered under 49 CFR part 192. (See DOT Docket #7666 for summaries of the meetings.) The purpose of these meetings was to develop integrity management concepts that could most effectively be applied to gas transmission pipelines. At the meetings, industry representatives presented their perspectives on a number of issues relating to integrity management. Presentations on each of these subject areas will be included in the public meeting agenda. They include:

• Considerations for defining HCAs affected by gas pipelines

• Evaluation of design factors currently used for gas transmission pipelines

• Evaluation of performance history and experience with the impact zone in gas transmission failures

• Integrity management best practices and relationship between incident causes and industry practices

• Options for various forms of direct assessment of the integrity of gas pipelines; their costs and effectiveness

• Basis for establishing test intervals

• Appropriateness of distinguishing between pipelines on basis of pressure

• Status of research activities

• Status of development of new national consensus standards

Day 2: Communications With the Public

Because communications with the public is an important part of a pipeline integrity management program, OPS is examining the need for standards for how operators are to communicate with State and local officials and the public about results of risk assessment processes and measures to prevent and mitigate damage to pipelines in case of a failure. OPS seeks comment on how State and local officials and the public could use and benefit from risk assessment information, how the consequences of potential pipeline failures should be characterized, how risk control actions should be described, and what operational information would be meaningful. To provide OPS input on both the content and optimal delivery of pipeline information, OPS formed the Integrity Management Communications Work Group. This nine-member group includes balanced representation of government, industry, and public interest stakeholders. At the public meeting, the Work Group will report the status of its discussions on the following topics:

• Proposed information to be communicated

• Expected utility of that information to the end user

• Feasibility of collecting/reporting that information

• Summary of any issues or debates concerning public access to that information

Presentations from members of the public will further explore communication needs and options.

Day 3: In-Depth Integrity Management Discussions

To ensure full consideration of all issues relating to gas pipeline integrity, attendees are invited to participate in a more in-depth and interactive treatment of topics raised on Day 1. These unstructured discussions will utilize an informal roundtable format.

Issued in Washington, DC, on December 28, 2000.
John Hess,
Acting Associate Administrator for Pipeline Safety.

[FR Doc. 01-237 Filed 1-3-01; 8:45 am]

BILLING CODE 4910-60-P